DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: 2004 National Long-Term Care Survey and Informal Caregiver's Survey.

Form Number(s): Screener Interview CAPI, Community Questionnaire CAPI, Institutional Questionnaire CAPI, Caregiver Questionnaire CAPI, LTC-9 (L2), LTC-9 (L3), LTC-9 (L4); LTC-4.

Agency Approval Number: 0607-0778.

Type of Request: Reinstatement, with change, of a previously approved collection.

Burden: 9,891 hours.

Number of Respondents: 19,900.

Avg Hours Per Response: 18 minutes.

Needs and Uses: Duke University has contracted with the U.S. Census Bureau to conduct the sampling, data collection, and estimation operations for the 2004 National Long-Term Care Survey (NLTCS) and the Informal Caregivers Survey (ICS). The 2004 NLTCS is a continuation of the NLTC surveys that the Census Bureau conducted for the Health Care Financing Administration (HCFA) in 1982 and 1984 and for Duke University in 1989, 1994, and 1999. The Census Bureau conducted the ICS as part of the 1989 and 1999 NLTC surveys. We are requesting approval for the 2004 NLTCS and the ICS.

The 2004 NLTCS consists of a screening interview and two detailed interviews, the community detailed interview, and the institutional detailed interview. The ICS is conducted after the community detailed interview with people who help or assist the NLTCS sample person because of a health problem or disability.

The proposed research assesses changes in the functional and health characteristics of an elderly (65+ years old) and oldest-old (85+ years old) nationally representative sample of people followed from 1982 to 2004.

Affected Public: Individuals or households; Business or other for-profit.

Frequency: On occasion.

Respondent's Obligation: Voluntary.

Legal Authority: Title 42, United States Code, section 285e-1 and title 15, United States Code, section 1525.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: July 13, 2004.
Madeleine Clayton,
Management Analyst, Office of the Chief Information Officer.

[FR Doc. 04-16268 Filed 7-16-04; 8:45 am]

BILLING CODE 3510-07-P